NUCLEAR REGULATORY COMMISSION

Regulatory Guide; Issuance, Availability

The U.S. Nuclear Regulatory Commission (NRC) has issued a new guide in the agency's Regulatory Guide Series. This series has been developed to describe and make available to the public such information as methods that are acceptable to the NRC staff for implementing specific parts of the NRC's regulations, techniques that the staff uses in evaluating specific problems or postulated accidents, and data that the staff needs in its review of applications for permits and licenses.

Regulatory Guide 1.202, “Standard Format and Content of Decommissioning Cost Estimates for Nuclear Power Reactors,” provides guidance for licensees to use in meeting the NRC's regulatory requirements for the various cost estimates that the agency requires for different stages and methods of decommissioning. Specifically, on July 29, 1996, the NRC amended its regulations on decommissioning procedures that lead to termination of an operating license for nuclear power reactors, as specified in Title 10, Section 50.82, of the Code of Federal Regulations (10 CFR 50.82). That rulemaking included changes to the decommissioning-related provisions of 10 CFR part 2, “Rules of Practice for Domestic Licensing Proceedings and Issuance of Orders''; part 50, “Domestic Licensing of Production and Utilization Facilities''; and part 51, “Environmental Protection Regulations for Domestic Licensing and Related Regulatory Functions.” Regulatory Guide 1.202 describes a method that the NRC staff considers acceptable for complying with those amended regulations.

In November 2001, the NRC staff published a draft of this guide as Draft Regulatory Guide DG-1085. Following the closure of the public comment period on January 30, 2002, the staff resolved all stakeholder comments in the course of preparing the new Regulatory Guide 1.202.

The NRC staff encourages and welcomes comments and suggestions in connection with improvements to published regulatory guides, as well as items for inclusion in regulatory guides that are currently being developed. You may submit comments by any of the following methods.

Mail comments to: Rules and Directives Branch, Office of Administration, U.S. Nuclear Regulatory Commission, Washington, DC 20555-0001.

Hand-deliver comments to: Rules and Directives Branch, Office of Administration, U.S. Nuclear Regulatory Commission, 11555 Rockville Pike, Rockville, Maryland 20852, between 7:30 a.m. and 4:15 p.m. on Federal workdays.

Fax comments to: Rules and Directives Branch, Office of Administration, U.S. Nuclear Regulatory Commission at (301) 415-5144.

Requests for technical information about Regulatory Guide 1.202 may be directed to C.L. Pittiglio at (301) 415-1435 or via e-mail to CLP@nrc.gov.

Regulatory guides are available for inspection or downloading through the NRC's public Web site in the Regulatory Guides document collection of the NRC's Electronic Reading Room at http://www.nrc.gov/reading-rm/doc-collections. Electronic copies of Regulatory Guide 1.202 are also available in the NRC's Agencywide Documents Access and Management System (ADAMS) at http://www.nrc.gov/reading-rm/adams.html, under Accession No. ML050230008. Note, however, that the NRC has temporarily suspended public access to ADAMS so that the agency can complete security reviews of publicly available documents and remove potentially sensitive information. Please check the NRC's Web site for updates concerning the resumption of public access to ADAMS.

In addition, regulatory guides are available for inspection at the NRC's Public Document Room (PDR), which is located at 11555 Rockville Pike, Rockville, Maryland; the PDR's mailing address is USNRC PDR, Washington, DC 20555-0001. The PDR can also be reached by telephone at (301) 415-4737 or (800) 397-4205, by fax at (301) 415-3548, and by e-mail to PDR@nrc.gov. Requests for single copies of draft or final guides (which may be reproduced) or for placement on an automatic distribution list for single copies of future draft guides in specific divisions should be made in writing to the U.S. Nuclear Regulatory Commission, Washington, DC 20555-0001, Attention: Reproduction and Distribution Services Section; by e-mail to DISTRIBUTION@nrc.gov; or by fax to (301) 415-2289. Telephone requests cannot be accommodated.

Regulatory guides are not copyrighted, and Commission approval is not required to reproduce them.

(5 U.S.C. 552(a))

Dated in Rockville, Maryland, this 14th day of February, 2005.
For the U.S. Nuclear Regulatory Commission.
Carl J. Paperiello,
Director, Office of Nuclear Regulatory Research.

[FR Doc. 05-3400 Filed 2-22-05; 8:45 am]

BILLING CODE 7590-01-P